DEPARTMENT OF DEFENSE

Office of the Secretary

Vietnam War Commemoration Advisory Committee; Notice of Federal Advisory Committee Meeting

AGENCY: DoD.

ACTION: Meeting notice.

SUMMARY: The Department of Defense is publishing this notice to announce the following Federal advisory committee meeting of the Vietnam War Commemoration Advisory Committee. This meeting is open to the public.

DATES: The public meeting of the Vietnam War Commemoration Advisory Committee (hereafter referred to as “the Committee”) will be held on Monday, June 8, 2015. The meeting will begin at 1:30 p.m. and end at 4:30 p.m.

ADDRESSES: Residence Inn Arlington Capital View, 2850 South Potomac Avenue, Arlington, VA 22202.

FOR FURTHER INFORMATION CONTACT: Committee's Designated Federal Officer: The committee's Designated Federal Officer is Mark Franklin, Vietnam War Commemoration, 1101 Wilson Blvd., Suite 810, Arlington, VA 22209, mark.r.franklin.civ@mail.mil, 703-697-4849. For meeting information please contact Mr. Mark Franklin, mark.r.franklin.civ@mail.mil, 703-697-4849 or Ms. Scherry Chewning, scherry.l.chewning.civ@mail.mil, 703-697-4908.

SUPPLEMENTARY INFORMATION: Due to circumstances beyond the control of the Designated Federal Officer and the Department of Defense, the Vietnam War Commemoration Advisory Committee was unable to provide public notification of its meeting of June 8, 2015, as required by 41 CFR 102-3.150(a). Accordingly, the Advisory Committee Management Officer for the Department of Defense, pursuant to 41 CFR 102-3.150(b), waives the 15-calendar day notification requirement.

This meeting is being held under the provisions of the Federal Advisory Committee Act of 1972 (5 U.S.C., Appendix, as amended), the Government in the Sunshine Act of 1976 (5 U.S.C. 552b, as amended), and 41 CFR 102-3.150.

Purpose of the Meeting: At this meeting, the Committee will convene and receive a series of updates on the Vietnam War Commemoration. The mission of the Committee is to provide the Secretary of Defense, through the Director of Administration (DA) independent advice and recommendations regarding major events and priority of efforts during the commemorative program for the 50th Anniversary of the Vietnam War, in order to achieve the objectives for the Commemorative Program.

Availability of Materials for the Meeting: A copy of the agenda for the Committee may be obtained from the Commemoration's Web site at http://vietnamwar50th.com. Copies will also be available at the meeting.

Meeting Agenda

1:30-1:40 p.m. Convene with Committee Chairman Remarks

1:40-4:25 p.m. Committee Meeting/Agenda items

• Vietnam Commemoration Program Update

• History and Legacy Update

• Strategy and Engagement Update

• Communications Plan

• Advisory Committee Deliberation and Discussion

• Closing Remarks

4:30 p.m. Adjourn

Public's Accessibility to the Meeting: Pursuant to 5 U.S.C. 552b and 41 CFR 102-3.140 through 102-3.165, and the availability of space, this meeting is open to the public. All members of the public who wish to attend the public meeting must contact Mark Franklin or Ms. Scherry Chewning at the number listed in the FOR FURTHER INFORMATION CONTACT section.

Special Accommodations: Individuals requiring special accommodations to access the public meeting should contact Mr. Mark Franklin or Ms. Scherry Chewning at least five (5) business days prior to the meeting so that appropriate arrangements can be made.

Procedures for Providing Public Comments

Pursuant to 41 CFR 102-3.105(j) and 102-3.140, and section 10(a)(3) of the Federal Advisory Committee Act of 1972, the public or interested organizations may submit written comments to the Commemoration about its mission and topics pertaining to this public meeting.

Written comments should be received by the DFO at least five (5) business days prior to the meeting date so that the comments may be made available to the Commemoration for their consideration prior to the meeting. Written comments should be submitted via email to the address for the DFO given in the FOR FURTHER INFORMATION CONTACT section in either Adobe Acrobat or Microsoft Word format. Please note that since the Commemoration operates under the provisions of the Federal Advisory Committee Act, as amended, all submitted comments and public presentations will be treated as public documents and will be made available for public inspection, including, but not limited to, being posted on the Commemoration's Web site.

Dated: May 21, 2015.
Aaron Siegel,
Alternate OSD Federal Register Liaison Officer, Department of Defense.

[FR Doc. 2015-12716 Filed 5-26-15; 8:45 am]

BILLING CODE 5001-06-P